DEPARTMENT OF THE INTERIOR

Fish and Wildlife Service

Availability of a Proposed Safe Harbor Agreement for the California Red-Legged Frog and Valley Elderberry Longhorn Beetle for the Burrows and Big Bluff Ranches in Tehama County, CA

AGENCY: Fish and Wildlife Service, Interior.

ACTION: Notice of availability; receipt of application.

SUMMARY: This notice advises the public that the owners of the Burrows Ranch and Big Bluff Ranch (Applicants) have applied to the Fish and Wildlife Service (Service) for an enhancement of survival permit pursuant to section 10(a)(1)(A) of the Endangered Species Act of 1973, as amended (16 U.S.C. 1531 et seq.) (Act). The permit application includes a proposed Safe Harbor Agreement (Agreement) between the Applicants and the Service for the threatened California red-legged frog (CRLF, Rana aurora draytonii) and the valley elderberry longhorn beetle (VELB, Desmocerus californicus dimorphus). The Agreement and permit application are available for public comment.

DATES: Written comments should be received on or before November 23, 2005.

ADDRESSES: Comments should be addressed to Catrina Martin, Fish and Wildlife Service, Sacramento Fish and Wildlife Office, 2800 Cottage Way, W-2605, Sacramento, California 95825. Written comments may be sent by facsimile to (916) 414-6711.

FOR FURTHER INFORMATION CONTACT: Ms. Catrina Martin, Sacramento Fish and Wildlife Office (see ADDRESSES); telephone: (916) 414-6600.

SUPPLEMENTARY INFORMATION:

Availability of Documents

You may obtain copies of the documents for review by contacting the individual named above. You may also make an appointment to view the documents at the above address during normal business hours.

Background

Under a Safe Harbor Agreement, participating landowners voluntarily undertake management activities on their property to enhance, restore, or maintain habitat benefiting species listed under the Act. Safe Harbor Agreements encourage private and other non-Federal property owners to implement conservation efforts for listed species by assuring property owners they will not be subjected to increased property use restrictions as a result of their efforts to attract listed species to their property or increase the numbers or distribution of listed species already on their property. Application requirements and issuance criteria for enhancement of survival permits through Safe Harbor Agreements are found in 50 CFR 17.22(c). We have worked with the Applicants to develop the proposed Agreement for the conservation of covered species on their Ranches in Tehama County, California.

This Agreement allows for management and conservation of the CRLF and VELB (covered species) on 7,450 acres of private land, owned by the Applicants in Tehama County, California. The proposed duration of the Agreement is 15 years, and the proposed term of the enhancement of a survival permit is 17 years. The permit would run the additional 2 years upon a determination by the Service that the actions identified in the Agreement were implemented prior to its 15 year expiration. This Agreement will allow the Applicants to return to baseline condition after 15 years, if so desired by the Applicants.

The Applicants also will receive incidental take authorization, should take of the covered species occur while conducting otherwise lawful activities. While unlikely, it is possible that in the course of normal activities, the Applicants could take a covered species. The Agreement fully describes the proposed project, management actions, and the conservation benefits that will be gained for the CRLF and the VELB.

The Service has made a preliminary determination that the proposed Agreement and permit application are eligible for categorical exclusion under the National Environmental Policy Act of 1969 (NEPA). We explain the basis for this determination in an Environmental Action Statement, which is also available for public review.

The presence of both CRLF and VELB on the enrolled properties is uncertain at this time due to lack of detailed survey information. For the purposes of the Agreement, the Service and Applicants have set the baseline for CRLF and VELB as the habitat that existed on the ranches prior to wetland creation activities. Therefore, the CRLF baseline is 18 reservoirs comprising approximately 45 acres. Sixteen of the reservoirs occur on the Burrows Ranch and two on the Big Bluff Ranch. For the VELB, the baseline is 65 naturally occurring elderberry bushes, of which 39 occur on the Burrows Ranch and 25 occur on the Big Bluff Ranch.

Under the Agreement, the Applicants would or have undertaken activities to benefit the CRLF. The Applicants have fenced nine existing reservoirs and six newly created ponds and installed watering troughs in order to exclude livestock from the reservoirs. The Applicants propose to: (1) Manage existing wetlands (through the use of livestock or light equipment) to maintain open water and wetland vegetation to benefit CRLF; (2) where practical and feasible for the Applicants and where it does not interfere with the operation of the Ranches, undertake bullfrog eradication efforts in ponds where bullfrogs are present; and (3) where practical and feasible for the Applicants and where it does not interfere with the operation of the Ranches, fence additional reservoirs and newly created ponds to exclude livestock. In addition to this, Burrows Ranch has created approximately 5.7 acres of ponds. These ponds were developed through a cooperative agreement with the Service's Partners for Fish and Wildlife program.

To benefit the VELB the Applicants propose to: (1) Manage vegetation and activity around the elderberry plants following the most current guidelines and measures developed and approved by the Service; (2) allow for recruitment of elderberry plants within riparian areas near existing elderberry plant communities by allowing all newly established elderberry plants within 50 feet of existing elderberry plants to grow and mature; and (3) work with the Service to identify suitable habitat areas and once funding is secured, plant elderberry bushes in areas amenable to the Applicants.

Under the Agreement, consistent with the Service's Safe Harbor Policy published in the Federal Register on June 17, 1999 (64 FR 32717), the Service would issue a permit to the Applicants authorizing incidental take as a result of normal land management activities on the Ranches' 7,450 acres. The properties subject to this Agreement range in elevation from approximately 800 feet to 1,760 feet and have traditionally been used for agricultural production, including cattle grazing and farming for dry land crops. Some of the land use activities that the Applicants have completed to further their land stewardship goals and to increase income from hunting and livestock grazing include creating wildlife habitat ponds for waterfowl, amphibians, game species, and others; fencing existing reservoirs and installing watering troughs in order to exclude livestock from the reservoirs to improve habitat for waterfowl; maintaining and monitoring wood duck nest boxes; clearing decadent brush and reseeding to annual clovers and perennial grasses to provide wildlife food and cover; planting grains and alfalfa for wildlife; and holding annual Stewardship Days in which neighbors, college students, resource agency employees, and others learn about sustainable ranch management and wildlife habitat improvement techniques, conduct vegetation and wildlife monitoring, and more.

Public Review and Comments

Individuals wishing copies of the permit application, copies of our preliminary Environmental Action Statement, and/or copies of the full text of the Agreement, including a map of the proposed permit area, references, and legal descriptions of the proposed permit area, should contact the office and personnel listed in the ADDRESSES section above.

If you wish to comment on the permit application or the Agreement, you may submit your comments to the address listed in the ADDRESSES section of this document. Comments and materials received, including names and addresses of respondents, will be available for public review, by appointment, during normal business hours at the address in the ADDRESSES section above and will become part of the public record, pursuant to section 10(c) of the Act. Individual respondents may request that we withhold their home address from the record, which we will honor to the extent allowable by law. There also may be circumstances in which we would withhold from the record a respondent's identity, as allowable by law. If you wish us to withhold your name and/or address, you must state this prominently at the beginning of your comment. Anonymous comments will not be considered. All submissions from organizations or businesses, and from individuals identifying themselves as representatives or officials of organizations or businesses, are available for public inspection in their entirety.

We will evaluate this permit application, associated documents, and comments submitted thereon to determine whether the permit application meets the requirements of section 10(a) of the Act and NEPA regulations. If we determine that the requirements are met, we will sign the proposed Agreement and issue an enhancement of survival permit under section 10(a)(1)(A) of the Act to the Applicants for take of the CLRF and the VELB incidental to otherwise lawful activities in accordance with the terms of the Agreement. We will not make our final decision until after the end of the 30-day comment period and will fully consider all comments received during the comment period.

The Service provides this notice pursuant to section 10(c) of the Act and pursuant to implementing regulations for NEPA (40 CFR 1506.6).

Dated: October 18, 2005.
Ken McDermond,
Deputy Manager, California/Nevada Operations Office, Sacramento, California.

[FR Doc. 05-21172 Filed 10-21-05; 8:45 am]

BILLING CODE 4310-55-P